COMMITTEE FOR PURCHASE FROM PEOPLE WHO AREBLIND OR SEVERELY DISABLED

Procurement List Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments Must Be Received On or Before: 11/8/2010.

ADDRESSES: Committee for Purchase From People Who Are Blind or Severely Disabled, Jefferson Plaza 2, Suite 10800, 1421 Jefferson Davis Highway, Arlington, Virginia 22202-3259.

FOR FURTHER INFORMATION CONTACT: For Further Information or to Submit Comments Contact: Barry S. Lineback, Telephone: (703) 603-7740, Fax: (703) 603-0655, ore-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish products and services to the Government.

2. If approved, the action will result in authorizing small entities to furnish products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Tape, Electrical Insulation

NSN: 5970-01-013-9367

NSN: 5970-01-245-7042

NPA: Raleigh Lions Clinic for the Blind, Inc., Raleigh, NC

Contracting Activity: DEFENSE LOGISTICS AGENCY, DES DSCR CONTRACTING SERVICES OFC, RICHMOND, VA

Coverage: C-List for 100% of the requirement of the Department of Defense, as aggregated by the Defense Logistics Agency Aviation, Richmond, VA.

Services

Service Type/Location: Custodial Service, Fort Gordon, GA

NPA: Good Vocations, Inc., Macon, GA

Contracting Activity: DEPT OF THE ARMY, XR W6BB ACA GORDON, FORT GORDON, GA

Service Type/Location: Linen Service, VA Medical Center, Danville, IL

NPA: Human Resources Center of Edgar and Clark Counties, Paris, IL

Contracting Activity: DEPT OF VETERANS AFFAIRS, VA MEDICAL CENTER, DANVILLE, IL

Service Type/Location: Custodial Service (Basewide), Eglin AFB, FL

NPA: Lakeview Center, Inc., Pensacola, FL

Contracting Activity: Air Armaments Center, Eglin AFB, FL

Barry S. Lineback,
Director, Business Operations.

[FR Doc. 2010-25422 Filed 10-7-10; 8:45 am]

BILLING CODE 6353-01-P